DEPARTMENT OF COMMERCE

International Trade Administration

[A-583-837]

Polyethylene Terephthalate Film, Sheet, and Strip From Taiwan: Extension of Time Limit for Final Results of the Antidumping Duty Administrative Review

AGENCY: Import Administration, International Trade Administration, Department of Commerce.

DATES: Effective Date: December 10, 2010.

FOR FURTHER INFORMATION CONTACT: Gene Calvert or Jack Zhao, AD/CVD Operations, Office 6, Import Administration, International Trade Administration, Department of Commerce, Washington, DC 20230; telephone: (202) 482-3586 or (202) 482-1396, respectively.

SUPPLEMENTARY INFORMATION:

Background

On August 16, 2010, the Department of Commerce (the Department) published the preliminary results of this review. See Polyethylene Terephthalate Film, Sheet, and Strip From Taiwan: Preliminary Results of Antidumping Duty Administrative Review, 75 FR 49902 (August 16, 2010) (Preliminary Results). The review covers the period July 1, 2008 through June 30, 2009. The final results of review are currently due on December 14, 2010.

Extension of Time Limits for Final Results

Section 751(a)(3)(A) of the Tariff Act of 1930, as amended (the Act), requires the Department to issue the final results of an administrative review within 120 days after the date on which the preliminary results are published. However, if it is not practicable to complete the review within this time period, section 751(a)(3)(A) of the Act allows the Department to extend the time period up to a maximum of 180 days from the date of publication of the preliminary results of this administrative review.

The Department finds that it is not practicable to complete the final results of this administrative review by the current due date of December 14, 2010. Additional time is needed to review sales and cost data that were gathered after the Preliminary Results and to issue a post-preliminary analysis regarding whether to use an alternate cost methodology. Therefore, pursuant to section 751(a)(3)(A) of the Act, we are extending the due date for the completion of the final results of this review from December 14, 2010 to February 12, 2011, 180 days after the date of publication of the Preliminary Results.

Because February 12, 2011 falls on a Saturday, it is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for the completion of these final results is now no later than February 14, 2011.

This notice is published in accordance with sections 751(a)(1) and 777(i)(1) of the Act.

Dated: December 6, 2010.
Gary Taverman,
Acting Deputy Assistant Secretary for Antidumping and Countervailing Duty Operations.

[FR Doc. 2010-31112 Filed 12-9-10; 8:45 am]

BILLING CODE 3510-DS-P